NUCLEAR REGULATORY COMMISSION

[NRC-2017-0077]

Recommended Practice for Dealing With Outlying Observations

AGENCY: Nuclear Regulatory Commission.

ACTION: Regulatory guide; withdrawal.

SUMMARY: The U.S. Nuclear Regulatory Commission (NRC) is withdrawing Regulatory Guide (RG) 5.36, “Recommended Practice for Dealing with Outlying Observations.” This RG is being withdrawn because guidance for licensees to develop written procedures describing statistical analyses of nuclear material accounting data, specifically when dealing with outlying observations in samples and for testing their statistical significance, is no longer needed.

DATES: The effective date of the withdrawal of RG 5.36 is March 29, 2017.

ADDRESSES: Please refer to Docket ID NRC-2017-0077 when contacting the NRC about the availability of information regarding this document. You may obtain publicly-available information related to this document, using the following methods:

• Federal Rulemaking Web site: Go to http://www.regulations.gov and search for Docket ID NRC-2017-0077. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Document collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced. The basis for the withdrawal of this guide is in ADAMS under Accession No. ML16225A444.

• NRC's PDR: You may examine and purchase copies of public documents at the NRC's PDR, Room O1-F21, One White Flint North, 11555 Rockville Pike, Rockville, Maryland 20852.

Regulatory guides are not copyrighted, and NRC approval is not required to reproduce them.

FOR FURTHER INFORMATION CONTACT: Glenn Tuttle, Office of Nuclear Materials Safety and Safeguards, telephone: 301-415-7230; email: Glenn.Tuttle@nrc.gov; and Harriet Karagiannis, Office of Nuclear Regulatory Research, telephone: 301-415-2493; email: Harriet.Karagiannis@nrc.gov. Both are staff members of the U.S. Nuclear Regulatory Commission, Washington, DC 20555-0001.

SUPPLEMENTARY INFORMATION: The NRC staff issued RG 5.36 in June 1974 to provide guidance on meeting the requirements related to material control and accounting (MC&A) statistical control procedures in section 70.22(b) of title 10 of the Code of Federal Regulations (10 CFR), “Contents of applications.” This requirement, regarding submittal of the licensees description of its material control and accounting (MC&A) procedures, did not specifically require the methodology that the guidance in RG 5.36 addressed and no longer exists in 10 CFR 70.22(b). The MC&A requirements have all been moved to 10 CFR part 74, and no specific requirements exist for performing outlier testing.

Regulatory guide 5.36 endorsed American Society for Testing and Materials (ASTM) Standard E178-74, “Recommended Practice for Dealing with Outlying Observations,” with qualifications. ASTM E178-74 provided a common method used in testing for outlying observations. However, the NRC is not aware that any licensee ever used this particular RG or the ASTM standard it endorsed since it is not required by NRC regulations. Instructions on performing such an analysis, if a licensee chose to test their MC&A data for outliers, can be found in NUREG/CR-4604 (PNL-5849), “Statistical Methods for Nuclear Material Management” (ADAMS Accession No. ML103430339). NUREG/CR-4604 was developed to be a comprehensive guidance document on statistical methods that licensees may use in evaluating MC&A data.

Withdrawal of an RG means that the guide no longer provides useful information or has been superseded by other guidance, technological innovations, congressional actions, or other events. The NRC is withdrawing RG 5.36 because it is no longer needed. The withdrawal of RG 5.36 does not alter any prior or existing NRC licensing approvals or the acceptability of licensee commitments to RG 5.36. Although RG 5.36 is withdrawn, current licensees may continue to use it, and withdrawal does not affect any existing licenses or agreements.

However, by withdrawing RG 5.36, the NRC will no longer specifically approve its use in future requests or applications for NRC licensing actions.

Dated at Rockville, Maryland, this 23rd day of March 2017.
For the Nuclear Regulatory Commission.
Thomas H. Boyce,
Chief, Regulatory Guidance and Generic Issues Branch, Division of Engineering, Office of Nuclear Regulatory Research.

[FR Doc. 2017-06177 Filed 3-28-17; 8:45 am]

BILLING CODE 7590-01-P